DEPARTMENT OF ENERGY

Federal Energy Regulatory Commission

[Project No. 10939-002]

James B. Adkins, Secesh United, LLC; Notice of Transfer of Exemption

1. On February 13, 2023, James B. Adkins, exemptee for the 45-kilowatt Zena Creek Ranch Hydroelectric Project No. 10939, filed a letter notifying the Commission that the project was transferred from James B. Adkins to Secesh United, LLC. The exemption from licensing was originally issued on December 27, 1990.¹ The project is located on the Secesh River, Valley County, Idaho. The transfer of an exemption does not require Commission approval.

¹ James B. Adkins, 53 FERC ¶ 62,275 (1990).

2. Secesh United, LLC is now the exemptee of the Zena Creek Ranch Hydroelectric Project No. 10939. All correspondence must be forwarded to Ms. Deborah Kane, Managing Member, Secesh United, LLC, 5055 SE 34th Avenue, Portland, OR 97202.

Dated: February 27, 2023.
Kimberly D. Bose,
Secretary.

[FR Doc. 2023-04453 Filed 3-3-23; 8:45 am]

BILLING CODE 6717-01-P